DEPARTMENT OF COMMERCE

National Oceanic and Atmospheric Administration

50 CFR Part 665

[Docket No. 090130102-91386-02]

RIN 0648-XA780

Western and Central Pacific Fisheries for Highly Migratory Species; 2011 Bigeye Tuna Longline Fishery Closure

AGENCY: National Marine Fisheries Service (NMFS), National Oceanic and Atmospheric Administration (NOAA), Commerce.

ACTION: Withdrawal of temporary rule.

SUMMARY: NMFS withdraws the temporary rule that would have closed the U.S. pelagic longline fishery for bigeye tuna in the western and central Pacific Ocean as a result of the fishery reaching the 2011 catch limit. NMFS no longer expects that the fishery will reach the limit by the date specified in the temporary rule.

DATES: The temporary rule published on November 18, 2011 (76 FR 71469) is withdrawn on November 28, 2011.

FOR FURTHER INFORMATION CONTACT: Tom Graham, NMFS Pacific Islands Region, (808) 944-2219.

SUPPLEMENTARY INFORMATION: NMFS established a catch limit of 3,763 metric tons (mt) of bigeye tuna (Thunnus obesus) for calendar year 2011 (74 FR 63999, December 7, 2009, and codified at 50 CFR 300.224). The limit was established under Conservation and Management Measure 2008-01 (CMM 2008-01) by the Commission for the Conservation and Management of Highly Migratory Species of the Western and Central Pacific Ocean (Commission). The catch limit applies to the U.S. pelagic longline fishery operating in the area of application of the Convention on the Conservation and Management of Highly Migratory Fish Stocks in the Western and Central Pacific Ocean (Convention Area). NMFS monitored the retained catches of bigeye tuna using logbook data submitted by vessel captains. NMFS used those data and other available information to determine that the 2011 catch limit was expected to be reached on November 27, 2011. In accordance with § 300.224(d), NMFS issued a temporary rule to close the U.S. pelagic longline fishery for bigeye tuna in the Convention Area on November 27, 2011, through the end of the 2011 calendar year (76 FR 71469, November 18, 2011).

On November 18, 2011, the President signed into law the Consolidated and Further Continuing Appropriations Act, 2012 (Act). Section 113 of the Act authorizes U.S. Participating Territories of the Commission, i.e., American Samoa, Guam, and the Northern Mariana Islands to (among other things) assign catch limits established by the Commission through arrangements with U.S. vessels with permits issued under the Fishery Management (now “Ecosystem”) Plan for Pelagic Fisheries of the Western Pacific Region. Under CMM 2008-01, Participating Territories are generally subject to an annual catch limit of 2,000 mt of bigeye tuna. Under Section 113, the Secretary of Commerce is to attribute to Participating Territories those catches made by vessels operating under arrangements that meet the requirements of that section for the purposes of annual reporting to the Commission.

As of the implementation date of the Act (November 18, 2011), the Hawaii longline Association, which represents U.S. longline vessels that fish in the western and central Pacific, had entered into an arrangement with the Territory of American Samoa. Pursuant to the Act, on November 18, 2011, NMFS began assigning catches by U.S. longline vessels fishing in the western and central Pacific to American Samoa. As a result, NMFS no longer expects that the fishery will reach the 2011 catch limit for U.S. fisheries on the date announced in the temporary rule (76 FR 71469, November 18, 2011), and withdraws that temporary rule.

Authority: 16 U.S.C. 6901 et seq.

Dated: November 25, 2011.
Alan D. Risenhoover,
Director, Office of Sustainable Fisheries, National Marine Fisheries Service.

[FR Doc. 2011-30953 Filed 11-28-11; 4:15 pm]

BILLING CODE 3510-22-P